DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Treatment Episode Data Set (TEDS) (OMB No. 0930-0335)—Revision

The Substance Abuse and Mental Health Services Administration (SAMHSA) is requesting a revision of the Treatment Episode Data Set (TEDS) data collection (OMB No. 0930-0335), which expires on January 31, 2016. TEDS is a compilation of client-level substance abuse treatment admission and discharge data submitted by states on clients treated in facilities that receive state funds. SAMHSA is requesting the addition of client-level mental health admission and update/discharge data (MH-TEDS/CLD) submitted by states on clients treated in facilities that receive state funds. These mental health data have been previously collected in support of the Community Mental Health Services Block Grant (MHBG) and Substance Abuse and Prevention Treatment Block Grant (SABG) Application Guidance and Instructions (OMB No. 0930-0168).

TEDS/MH-TEDS/CLD data are collected to obtain information on the number of admissions and updates/discharges at publicly-funded substance abuse treatment and mental health services facilities and on the characteristics of clients receiving services at those facilities. TEDS/MH-TEDS/CLD also monitors trends in the demographic, substance use, and mental health characteristics of admissions. In addition, several of the data elements used to calculate performance measures for the Substance Abuse Block Grant (SABG) and Mental Health Block Grant (MHBG) applications are collected in TEDS/MH-TEDS/CLD.

This request includes:

• Continuation of collection of TEDS (substance abuse) client-level admissions and discharge data;

• Continuation of collection of MH-TEDS client-level admissions and update/discharge data of mental health clients beyond the pilot phase; and

• Addition of collection of MHCLD client-level admissions and update/discharge data (transferred from OMB No. 0930-0168).

Most states collect the TEDS/MH-TEDS/CLD data elements from their treatment providers for their own administrative purposes and are able to submit a cross-walked extract of their data to TEDS/MH-TEDS/CLD. No changes are expected in the (substance abuse) TEDS collection. No changes are expected in the (mental health) MH- CLD collection (other than recording the MH-TEDS/CLD burden hours separately from the Substance Abuse Block Grant (SABG) and Mental Health Block Grant (MHBG) application approval instructions (OMB No. 0930-0168) and the addition of MH-TEDS beyond the pilot phase. No data element changes for TEDS/MH-TEDS/CLD are expected.

The estimated annual burden for the separate TEDS/MH-TEDS/CLD activities is as follows:

Type of activity | Number of respondents (states/ jurisdictions) | Responses per respondent | Total responses | Hours per response | Total burden hours
TEDS Admission Data | 52 | 4 | 208 | 6.25 | 1,300
TEDS Discharge Data | 52 | 4 | 208 | 8.25 | 1,716
TEDS Crosswalks | 5 | 1 | 5 | 10 | 50
MH-CLD BCI Data | 30 | 1 | 30 | 30 | 900
MH-CLD SHR Data | 30 | 1 | 30 | 5 | 150
MH-TEDS Admissions Data | 29 | 4 | 116 | 6.25 | 725
MH-TEDS Update/Discharge Data | 29 | 4 | 116 | 8.25 | 957
MH-TEDS Crosswalks |  | 1 | 10 | 10 | 100
State Total | 59 |  | 723 |  | 5,898

Written comments and recommendations concerning the proposed information collection should be sent by December 21, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2015-29523 Filed 11-18-15; 8:45 am]

BILLING CODE 4162-20-P